DEPARTMENT OF LABOR

Employment and Training Administration

[TA-W-38,600]

H.L. Miller and Son, Inc., Dallas, TX; Notice of Revised Determination of Reconsideration

By letter of April 18, 2001, the company, requested administrative reconsideration regarding the Department's Negative Determination Regarding Eligibility to Apply for Worker Adjustment Assistance, applicable to the workers of the subject firm.

The initial investigation resulted in a negative determination issued on March 12, 2001, based on the finding that the workers do not produce an article within the meaning of section 222(3) of the Act. The denial notice was published in the Federal Register on April 16, 2001 (66 FR 19520).

To support the request for reconsideration, the company provided evidence to show that the subject facility was a manufacturer of ladies dresses and sportswear prior to the closure of facility. Aggregate U.S. imports of ladies dresses and sportswear increased significantly during the relevant period. The import to shipment ratio for ladies dresses and sportswear was greater than 150 percent during the 2000 period.

Conclusion

After careful review of the additional facts obtained on reconsideration, I conclude that increased imports of articles like or directly competitive with those produced at H.L. Miller and Son, Inc., Dallas, Texas, contributed importantly to the declines in sales or production and to the total or partial separation of workers at the subject firm. In accordance with the provisions of the Act, I make the following certification:

All workers of H.L. Miller and Son, Inc., Dallas, Texas, who became totally or partially separated from employment on or after January 18, 2000 through two years from the date of this certification, are eligible to apply for adjustment assistance under Section 223 of the Trade Act of 1974.

Signed in Washington, DC this 20th day of September 2001.
Edward A. Tomchick,
Director, Division of Trade Adjustment Assistance.

[FR Doc. 01-24815 Filed 10-3-01; 8:45 am]

BILLING CODE 4510-30-M